ENVIRONMENTAL PROTECTION AGENCY

[FRL-7231-5]

Escambia Wood Preserving Superfund Sites; Brookhaven Wood Preserving Site—MS, Brunswick Wood Preserving Site—GA, Camilla Wood Preserving Site—GA, Pensacola Wood Preserving Site—FL; Notice of Proposed Settlement

AGENCY: Environmental Protection Agency.

ACTION: Notice of proposed settlement.

SUMMARY: The Environmental Protection Agency is proposing to enter into a settlement with Mr. Charles A. Soule, Jr., pursuant to 122(h)(1) of the Comprehensive Environmental Response, Compensation, and Liability Act of 1980, as amended, regarding the Escambia Wood Preserving Superfund Sites: Brookhaven Wood Preserving Site located in Brookhaven, Lincoln County, Mississippi; Brunswick Wood Preserving Site located in Brunswick, Glynn County, Georgia; Camilla Wood Preserving Site located in Camilla, Mitchell County, Georgia; Pensacola Wood Preserving Site located in Pensacola, Escambia County, Florida. EPA will consider public comments on the proposed settlement for thirty (30) days. EPA may withdraw from or modify the proposed settlement should such comments disclose facts or considerations which indicate the proposed settlement is inappropriate, improper or inadequate. Copies of the proposed settlement are available from: Ms. Paula Batchelor, U.S. EPA Region 4 (WMD-CPSB), Sam Nunn Atlanta Federal Center, 61 Forsyth Street SW, Atlanta, Georgia 30303, (404) 562-8887. Written comments may be submitted to Ms. Batchelor within thirty (30) calendar days of the date of this publication.

Dated: May 15, 2002.
Anita L. Davis,
Acting Chief, CERCLA Program Services Branch Waste Management Division.

[FR Doc. 02-15090 Filed 6-13-02; 8:45 am]

BILLING CODE 6560-50-P